DEPARTMENT OF COMMERCE

Foreign-Trade Zones Board

[Order No. 1803]

Approval for Manufacturing Authority; Foreign-Trade Zone 26; Makita Corporation of America; (Hand-Held/Stationary Power Tool and Gasoline/Electric-Powered Lawn and Garden Product Manufacturing); Buford, GA

Pursuant to its authority under the Foreign-Trade Zones Act of June 18, 1934, as amended (19 U.S.C. 81a-81u), the Foreign-Trade Zones Board (the Board) adopts the following Order:

Whereas, Georgia Foreign-Trade Zone, Inc., grantee of Foreign-Trade Zone 26, has requested manufacturing authority on behalf of Makita Corporation of America (Makita), within Site 20 of FTZ 26 in Buford, Georgia, (FTZ Docket 50-2011, filed 07/26/2011);

Whereas, notice inviting public comment has been given in the Federal Register (76 FR 45771-45772, 08/01/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 26 on behalf of Makita, as described in the application and Federal Register notice, is approved, subject to the FTZ Act and the Board's regulations, including Section 400.28.

Signed at Washington, DC this 16th day of December, 2011.
Paul Piquado
Assistant Secretary of Commerce for Import Administration, Alternate Chairman, Foreign-Trade Zones Board.
Attest:
Andrew McGilvray,
Executive Secretary.

[FR Doc. 2011-33194 Filed 12-23-11; 8:45 am]

BILLING CODE P